DEPARTMENT OF THE INTERIOR

National Park Service

[NPS-WASO-NAGPRA-NPS0035907; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology (PMAE), Harvard University has completed an inventory of human remains and associated funerary objects and has determined that there is no cultural affiliation between the human remains and associated funerary objects and any Indian Tribe. The human remains and associated funerary objects were removed from Bradley, Davidson, Jackson, McMinn, and Sumner Counties, TN, and from unknown counties in TN.

DATES: Disposition of the human remains and associated funerary objects in this notice may occur on or after June 23, 2023.

ADDRESSES: Patricia Capone, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

The following descriptions are organized, first, by collector and then, by year and county.

Frederic Ward Putnam's 1877 to 1879 PMAE Expeditions in Davidson and Sumner Counties, TN

All the human remains and associated funerary objects from Putnam's expeditions were accessioned by the PMAE in the year of collection.

In 1877, human remains representing, at minimum, 81 individuals were removed by Putnam from the Bowling Farm Site (state site number 40DV426) in Davidson County, TN. No known individuals were identified. The 146 associated funerary objects include 145 objects that are present at the PMAE and one object that is currently not located. The 145 present funerary objects are one ceramic ear spool; two stone ear spools; two perforated canine teeth; seven beaver teeth or tooth fragments; six faunal bone or bone fragments; 23 shell beads or bead fragments; one lot consisting of shell beads; five shells or shell fragments; one lot consisting of shells; three shell spoons; four stone chips and shell fragments; 10 bifaces or biface fragments/debitage; 11 bone awls; one lithic tool (perforator); one lot consisting of stone flakes and shell fragments; five stone flakes or debitage; three stones or stone fragments; two worked antler tools; one worked bone tool; one worked shell fragments and one soil concretion; seven worked shells or shell fragments; one ceramic pipe; one ceramic bottle; four ceramic bowls; one ceramic effigy bottle; eight ceramic jars; four ceramic vessels; two lot consisting of ceramic vessel sherds; and 26 ceramic vessel fragments or sherds. The one associated funerary object currently not located is one lot consisting of perforated shells.

In 1877, human remains representing, at minimum, one individual were removed by Putnam from the Brick Church Pike Mound (state site number 40DV39) in Davidson County, TN. No known individual was identified. The one associated funerary object, a small copper ornament, is not currently located.

In 1877, human remains representing, at minimum, two individuals were removed by Putnam from the Zollicoffer Fort Site (state site number 40DV32) in Davidson County, TN. No known individuals were identified. The three associated funerary objects are one lot consisting of ceramic sherds and antler fragments, one ceramic sherd, and one copper sheet ornament.

In 1877 and 1878, human remains representing, at minimum, five individuals were removed by Putnam from Overton's Farm, also known as the Traveller's Rest Site (state site number 40DV11), in Davidson County, TN. No known individuals were identified. The one associated funerary object is a ceramic bowl.

In 1879, human remains representing, at minimum, one individual were removed by Putnam from the Mr. Crockarell's Place, also known as Cockrill Bend (state site number 40DV35), in Davidson County, TN. No known individual was identified. No associated funerary objects are present.

In 1879, human remains representing, at minimum, one individual were removed by Putnam from a stone grave near Drake's Creek in Sumner County, TN. No known individual was identified. No associated funerary objects are present.

Edwin Curtiss's 1877-1879 PMAE Expeditions in Davidson, Jackson, and Sumner Counties, TN

Unless otherwise noted, all the human remains and associated funerary objects from Curtiss's expeditions were accessioned by the PMAE in the year of collection.

In 1877, human remains representing, at minimum, six individuals were removed by Curtiss from Clees Plantation in Davidson County, TN. No known individuals were identified. No associated funerary objects are present.

In 1877, human remains representing, at minimum, 14 individuals were removed by Curtiss from Wilkinson's Farm, also known as the Gordontown Site (state site number 40DV6), in Davidson County, TN. No known individuals were identified. The one associated funerary object is a ceramic bowl.

In 1878, human remains representing, at minimum, four individuals were removed by Curtiss from Marshall's Farm in Davidson County, TN, and were accessioned by the PMAE in 1879. No known individuals were identified. The 12 associated funerary objects are one ceramic jar, nine shell beads, and two fragments of shell spoons.

In 1878, human remains representing, at minimum, two individuals were removed by Curtiss from stone graves near Nashville in Davidson County, TN. The place of removal may have been Marshall's Farm. No known individuals were identified. No associated funerary objects are present.

In 1878, human remains representing, at minimum, seven individuals were removed by Curtiss from stone graves near the Cumberland River in either Davidson or Jackson County, TN. No known individuals were identified. No associated funerary objects are present.

In 1878, human remains representing, at minimum, 12 individuals were removed by Curtiss from Mr. Gower's Place in Davidson County, TN. No known individuals were identified. The 11 associated funerary objects are one ceramic bowl, one ceramic vessel, one shell, one ceramic sherd, one lot consisting of ceramic sherds, one faunal bone, one biface, and four fossilized shells.

In 1878, human remains representing, at minimum, 45 individuals were removed by Curtiss from Noel Cemetery, also known as Oscar Noel's Farm (state site number 40DV3), in Davidson County, TN. Locations within this site include Cain's Chapel and Cain's Field. No known individuals were identified. The 25 associated funerary objects include 22 objects that are present at the PMAE and three objects that are currently not located. The 22 present associated funerary objects are six ceramic bowls, two ceramic effigy vessels, two ceramic jars, one ceramic vessel, two pieces of debitage, one ground stone disk, six shell spoons, one stone bead, and one shell of unio. The three associated funerary objects currently not located are two bifaces and one lot consisting of shell spoons.

In 1878, human remains representing, at minimum, one individual were removed by Curtiss from a cave near the Cumberland River in Jackson County, TN. No known individual was identified. The eight associated funerary objects are eight faunal bones or bone fragments.

In 1878, human remains representing, at minimum, 23 individuals were removed by Curtiss from the Rutherford-Kizer site (state site number 40SU15) in Sumner County, TN, and were accessioned by the PMAE in 1879. No known individuals were identified. The 69 associated funerary objects include 68 objects that are present at the PMAE and one object that is currently not located. The 68 present associated funerary objects are 13 shells; one stone; five fragments of a copper-covered wooden button and a horn ornament; one bag of copper ornament fragments; one ceramic vessel; one discoidal stone; one faunal bone fragment; one grinding stone; one biface and one flake; two bifaces; one lot consisting of mica fragments; one lot consisting of shell, bone, and tooth fragments; one lot consisting of quartz, pebbles, and lithics; one shell; six shell gorgets; two smooth pebbles; 12 shell beads; 12 strands of beads; three crystals of galena and quartz; and one lot consisting of ceramic sherds. The one associated funerary object currently not located is one lot consisting of shell beads.

In 1879, human remains representing, at minimum, one individual were removed by Curtiss from Dr. Dosier's Place in Davidson County, TN. No known individual was identified. The one associated funerary object is a fossil crinoid stem.

John W. Emmert's 1890-1892 Expeditions in Bradley, McMinn, and unknown counties in TN

All human remains and associated funerary objects from Emmert's expeditions were received by the PMAE between 1890 and 1892. They were catalogued by the PMAE in 1969.

In 1890, human remains representing, at minimum, nine individuals were removed by Emmert from Ross Mound in Bradley County, TN, and were received by the PMAE in 1890. No known individuals were identified. The six associated funerary objects are six lithics.

Between 1890 and 1892, human remains representing, at minimum, three individuals were removed by Emmert from the Denton Mounds in Bradley County, TN, and were received by the PMAE in 1892. No known individuals were identified. The nine associated funerary objects are six bifaces, two discoidal stones, and one stone celt.

Between 1890 and 1892, human remains representing, at minimum, two individuals were removed by Emmert from the Hooper Mounds, also known as the Candy Creek site, in Bradley County, TN, and were received by the PMAE in 1892. No known individuals were identified. The 10 associated funerary objects are six ceramic fragments; two bags of ceramic sherds, bones, and beads; and two lots consisting of ceramic sherds.

Between 1890 and 1892, human remains representing, at minimum, three individuals were removed by Emmert from Perry Mound in Bradley County, TN, and were received by the PMAE in 1892. No known individuals were identified. The four associated funerary objects include three objects that are present at the PMAE and one object that is currently not located. The three present associated funerary objects are one bone bead, one shell bead, and one drilled bear tusk. The one associated funerary object currently not located is one shell bead.

Between 1890 and 1892, human remains representing, at minimum, 31 individuals were removed by Emmert from Hudson Mound in McMinn County, TN, and were received by the PMAE sometime between 1890 and 1892. No known individuals were identified. The three associated funerary objects are two stone celts and one copper axe.

Between 1890 and 1892, human remains representing, at minimum, one individual, were removed by Emmert from Marler Mound in McMinn County, TN, and were received by the PMAE in 1892. No known individual was identified. No associated funerary objects are present.

Between 1890 and 1892, human remains representing, at minimum, one individual were removed by Emmert from Ballew Mound in McMinn County, TN, and were received by the PMAE in 1892. No known individual was identified. The one associated funerary object is a large, drilled column of shell.

Between 1890 and 1892, human remains representing, at minimum, nine individuals were removed by Emmert from Forrest Mound 1 in McMinn County, TN, and were received by the PMAE in 1892. No known individuals were identified. The two associated funerary objects include one object that is present at the PMAE and one object that is not currently located. The one present associated funerary object is one lot consisting of stone fragments (likely pyrite). The one associated funerary object currently not located is a grooved ovaloid pipe.

Between 1890 and 1892, human remains representing, at minimum, one individual were removed by Emmert from McCroskey Mound in McMinn County, TN, and were received by the PMAE in 1892. No known individual was identified. The eight associated funerary objects are four projectile points, one quartz scraper, two charcoal pieces, and one ceramic bead.

Between 1890 and 1892, human remains representing, at minimum, two individuals, were removed by Emmert from Hyatt Mound, near Mouse Creek, in an unknown county in TN, and were received by the PMAE in 1890. Based on correspondence from Emmert, it is probable that the Hyatt Mound was in McMinn County. No known individuals were identified. No associated funerary objects are present.

Between 1890 and 1892, human remains representing, at minimum, three individuals were removed by Emmert from a site identified as Mound 2, in an unknown county in TN, and were received by the PMAE in 1890. Correspondence and field notes from Emmert indicate he was primarily excavating in Bradley, McMinn, Polk, Marion, and Meigs Counties, TN, in these years. No known individuals were identified. No associated funerary objects are present.

Between 1890 and 1892, human remains representing, at minimum, 85 individuals, were removed by Emmert from unidentified locations within TN, and were received by the PMAE. Correspondence and field notes from Emmert indicate he was primarily excavating in Bradley, McMinn, Polk, Marion, and Meigs Counties, TN, in these years. No known individuals were identified. The five associated funerary objects are one ceramic sherd, two faunal bone fragments, one animal tooth, and one bone bead.

Additional Collectors in Davidson County, TN

At an unknown date, human remains representing, at minimum, one individual were removed by Mrs. J. M. Overton from Overton's Farm, also known as Traveller's Rest Site (state site number 40DV11), in Davidson County, TN. In 1877, Overton donated these human remains to the PMAE. No known individual was identified. No associated funerary objects are present.

At an unknown date, human remains representing, at minimum one individual were removed by R. S. Robertson from the Zollicoffer Fort Site (state site number 40DV32) in Davidson County, TN. In 1877, Robertson donated these human remains to the PMAE. No known individual was identified. No associated funerary objects are present.

In 1877, human remains representing, at minimum, five individuals were removed by Horatio N. Rust from the Zollicoffer Fort Site (state site number 40DV32) in Davidson County, TN, and were donated to the PMAE. No known individuals were identified. The four associated funerary objects are one faunal bone and three boxes of ceramic sherds.

In 1884, human remains representing, at minimum, five individuals were removed by George Woods from Noel Cemetery, also known as Oscar Noel's Farm (state site number 40DV3), in Davidson County, TN, as part of a PMAE expedition led by Frederic Ward Putnam. No known individuals were identified. The 11 associated funerary objects are one ceramic effigy vessel, one container filled with shell beads, one ceramic jar, one shell bead, one shell spoon, one shell, and five bone implements or tools.

In 1955, human remains representing, at minimum, two individuals, were removed by Dr. L. Cabot Briggs from the Logan Site (state site number 40DV8) in Davidson County, TN, and were donated to the PMAE. This burial is also known as the “Cheekwood Burial.” No known individuals were identified. The one associated funerary object is one ceramic bowl.

Aboriginal Land

The human remains and associated funerary objects in this notice were removed from known geographic locations. These locations are the aboriginal lands of one or more Indian Tribes. The following information was used to identify the aboriginal land: a final judgment of the Indian Claims Commission or the United States Court of Claims and treaties.

Determinations

Pursuant to NAGPRA and its implementing regulations, and after consultation with the appropriate Indian Tribes, the PMAE has determined that:

• The human remains described in this notice represent the physical remains of 370 individuals of Native American ancestry.

• The 342 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Cherokee Nation; Eastern Band of Cherokee Indians; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 23, 2023. If competing requests for disposition are received, the PMAE must determine the most appropriate requestor prior to disposition. Requests for joint disposition of the human remains and associated funerary objects are considered a single request and not competing requests. The PMAE is responsible for sending a copy of this notice to the Indian Tribes identified in this notice.

Authority: Native American Graves Protection and Repatriation Act, 25 U.S.C. 3003, and the implementing regulations, 43 CFR 10.9 and 10.11.

Dated: May 17, 2023.
Melanie O'Brien,
Manager, National NAGPRA Program.

[FR Doc. 2023-11012 Filed 5-23-23; 8:45 am]

BILLING CODE 4312-52-P